DEPARTMENT OF HOMELAND SECURITY

Transportation Security Administration

New Agency Information Collection Activity Under OMB Review: General Aviation Airport Threat and Vulnerability Assessment

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on June 6, 2008, 73 FR 32345. The collection involves the submission by general aviation airports of a threat and vulnerability assessment in order for TSA to develop a standardized threat and vulnerability assessment program, as mandated by the Implementing Recommendations of the 9/11 Commission Act of 2007.

DATES: Send your comments by March 12, 2009. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Ginger LeMay, PRA Officer, Office of Information Technology, TSA-11, Transportation Security Administration, 601 South 12th Street, Arlington, VA 20598-6011; telephone (571) 227-3616; e-mail: ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: General Aviation Airport Threat and Vulnerability Assessment.

Type of Request: New collection.

OMB Control Number: Not yet assigned.

Form(s): NA.

Affected Public: Operators of general aviation airports.

Abstract: Section 1617(k)(1) of the Implementing Recommendations of the 9/11 Commission Act of 2007 (Pub. L. 110-53, 121 Stat. 266, 488, Aug. 3, 2007) (9/11 Commission Act) requires that the TSA Administrator develop a standardized threat and vulnerability assessment program for general aviation airports and implement a program to perform such assessments on a risk-management basis at general aviation airports. To do this, TSA will request that general aviation airport operators complete a threat and vulnerability assessment, available on TSA's Web site, http://www.tsa.gov. The information collected will provide TSA the data necessary to complete the program required by the 9/11 Commission Act.

Number of Respondents: 3,000.

Estimated Annual Burden Hours: An estimated 1,500 hours annually.

Ginger LeMay,
Paperwork Reduction Act Officer, Office of Information Technology.

[FR Doc. E9-2653 Filed 2-9-09; 8:45 am]

BILLING CODE 9110-05-P